FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
08-JUN-09 | 0090490 | G | Occidental Petroleum Corporation.
|  | G | The Dow Chemical Company.
|  | G | The Dow Chemical Company.
09-JUN-09 | 20090496 | G | Caisse Nationale des Caisses d'Epargne.
|  | G | CEBP SA.
|  | G | CEBP SA.
| 20090498 | G | Banque Federale des Banques Populaires.
|  | G | CEBP SA.
|  | G | CEBP SA.
10-JUN-09 | 20090477 | G | AT&T Inc.
|  | G | Verizon Communications Inc.
|  | G | Newco LLC.
12-JUN-09 | 20090504 | G | Clayton, Dubilier & Rice Fund VII, L.P.
|  | G | Hertz Global Holdings, Inc.
|  | G | Hertz Global Holdings, Inc.
16-JUN-09 | 20090511 | G | Vista Equity Partners Fund Ill, L.P.
|  | G | SumTotal Systems, Inc.
|  | G | SumTotal Systems, Inc.
17-JUN-09 | 20090503 | G | Carlyle Partners IV, L.P.
|  | G | Hertz Global Holdings, Inc.
|  | G | Hertz Global Holdings, Inc.
| 20090514 | G | Johnson & Johnson.
|  | G | Cougar Biotechnology, Inc.
|  | G | Cougar Biotechnology, Inc.
| 20090515 | G | OCM/GFI Power Opportunities Fund II, L.P.
|  | G | Robert David Sheehan, Jr.
|  | G | Sheehan Pipe Line Construction Company.
18-JUN-09 20090493 |  | G | Novant Health, Inc.
|  | G | Prince William Health System.
|  | G | Prince William Health System.
| 20090499 | G | The Johns Hopkins Health System Corporation.
|  | G | Suburban Hospital Healthcare System, Inc.
|  | G | Suburban Hospital Healthcare System, Inc.
| 20090527 | G | Alternative Asset Management Acquisition Corp.
|  | G | Andrew Gumaer.
|  | G | Great American Group, LLC.
| 20090528 | G | Alternative Asset Management Acquisition Corp.
|  | G | Harvey M. Yellen.
|  | G | Great American Group, LLC.
19-JUN-09 | 20090486 | G | Schering-Plough Corporation.
|  | G | Novartis AG.
|  | G | Novartis Pharma AG.
| 20090487 | G | Novartis AG.
|  | G | Schering-Plough Corporation.
|  | G | Schering-Plough Ltd.
23-JUN-09 20090532 |  | G | S. Kumars Nationwide Ltd.
|  | G | Hartmarx Corporation.
|  | G | Hartmarx Corporation.
25-JUN-09 | 20090505 | G | Valline S.r.I.
|  | G | Cornerstone Therapeutics Inc.
|  | G | Cornerstone Therapeutics Inc.
| 20090512 | G | Sumitomo Metal Mining Co., Ltd.
|  | G | Teck Resources Limited.
|  | G | Teck-Pogo, Inc.
| 20090526 | G | Golden Gate Capital Opportunity Fund, L.P.
|  | G | Aeon Co. Ltd.
|  | G | J. Jill, LLC.
|  | G | Birch Pond Realty Corporation.
26-JUN-09 | 20090537 | G | Communications Infrastructure Investments, LLC.
|  | G | FiberNet Telecom Group, Inc.
|  | G | FiberNet Telecom Group, Inc.
| 20090541 | G | Aquiline Financial Services Fund L.P.
|  | G | Swiss Reinsurance Company Ltd.
|  | G | Conning & Company.
|  | G | Conning Asset Management Limited.
|  | G | Conning Asset Management (Europe) Limited.
29-JUN-09 | 20090492 | G | John C. Malone.
|  | G | Liberty Entertainment, Inc.
|  | G | Liberty Entertainment, Inc.
02-JUL-09 | 20090502 | G | EMC Corporation.
|  | G | Data Domain, Inc.
|  | G | Data Domain, Inc.
| 20090506 | G | NetApp, Inc.
|  | G | Data Domain, Inc.
|  | G | Data Domain, Inc.
06-JUL-09 20090543 |  | G | Golden Gate Capital Opportunity Fund, L.P.
|  | G | SoftBrands, Inc.
|  | G | SoftBrands, Inc.
| 20090544 | G | Nokia Corporation.
|  | G | Nortel Networks Corporation.
|  | G | Nortel Networks Corporation.
| 20090545 | G | SAIC, Inc.
|  | G | R.W. Beck Group, Inc.
|  | G | R.W. Beck Group, Inc.
| 20090553 | G | CCMP Capital Investors II, L.P.
|  | G | Eddie Bauer Holdings, Inc.
|  | G | Eddie Bauer Holdings, Inc.
07-JUL-09 | 20090539 | G | Sageview Capital Master, L.P.
|  | G | Gerresheimer AG.
|  | G | Gerresheimer AG.

For Further Information Contact: Sandra M. Peay, Contact Representative; or Renee Hallman, Contact Representative, Federal Trade Commission Premerger, Notification Office, Bureau Of Competition, Room H-303, Washington, DC 20580, (202) 326-3100.

By Direction of the Commission.
Donald S. Clark,
Secretary.

[FR Doc. 2010-20814 Filed 8-23-10; 8:45 am]

BILLING CODE 6750-01-M